DEPARTMENT OF ENERGY

Federal Energy Regulatory Commission

Combined Notice of Filings

Take notice that the Commission has received the following Natural Gas Pipeline Rate and Refund Report filings:

Filings Instituting Proceedings

Docket Number: PR19-52-000.

Applicants: SCOOP Express, LLC.

Description: Tariff filing per 284.123(b),(e)+(g): SCOOP Express revised SOC 3-18-19 to be effective 2/28/2019.

Filed Date: 3/26/19.

Accession Number: 201903265177.

Comments Due: 5 p.m. ET 4/16/19.

284.123(g) Protests Due: 5 p.m. ET 5/28/19.

Docket Numbers: RP18-1113-001.

Applicants: MoGas Pipeline LLC.

Description: Compliance filing MoGas RP18-1113 Compliance Filing to Provide Corrected Tariff Record to be effective 12/1/2018.

Filed Date: 3/28/19.

Accession Number: 20190328-5218.

Comments Due: 5 p.m. ET 4/9/19.

Docket Numbers: RP19-934-000.

Applicants: NEXUS Gas Transmission, LLC.

Description: § 4(d) Rate Filing: Negotiated Rate—EAP 860161 to DTE 960203 eff 4-1-19 to be effective 4/1/2019.

Filed Date: 3/28/19.

Accession Number: 20190328-5048.

Comments Due: 5 p.m. ET 4/9/19.

Docket Numbers: RP19-935-000.

Applicants: Florida Gas Transmission Company, LLC.

Description: Compliance filing NAESB Version 3.1 Compliance to be effective 8/1/2019.

Filed Date: 3/28/19.

Accession Number: 20190328-5054.

Comments Due: 5 p.m. ET 4/9/19.

Docket Numbers: RP19-936-000.

Applicants: Panhandle Eastern Pipe Line Company, LP.

Description: Compliance filing NAESB Version 3.1 Compliance to be effective 8/1/2019.

Filed Date: 3/28/19.

Accession Number: 20190328-5055.

Comments Due: 5 p.m. ET 4/9/19.

Docket Numbers: RP19-937-000.

Applicants: Trunkline Gas Company, LLC.

Description: Compliance filing NAESB Version 3.1 Compliance to be effective 8/1/2019.

Filed Date: 3/28/19.

Accession Number: 20190328-5056.

Comments Due: 5 p.m. ET 4/9/19.

Docket Numbers: RP19-938-000.

Applicants: Southwest Gas Storage Company.

Description: Compliance filing NAESB Version 3.1 Compliance to be effective 8/1/2019.

Filed Date: 3/28/19.

Accession Number: 20190328-5057.

Comments Due: 5 p.m. ET 4/9/19.

Docket Numbers: RP19-939-000.

Applicants: Texas Eastern Transmission, LP.

Description: § 4(d) Rate Filing: Negotiated Rate—MC Global 911524 to Tenaska 8956869 eff 4-1-19 to be effective 4/1/2019.

Filed Date: 3/28/19.

Accession Number: 20190328-5063.

Comments Due: 5 p.m. ET 4/9/19.

Docket Numbers: RP19-940-000.

Applicants: Golden Triangle Storage, Inc.

Description: Compliance filing Proposed Revisions to FERC Gas Tariff to Comply With Order No. 587-Y to be effective 8/1/2019.

Filed Date: 3/28/19.

Accession Number: 20190328-5073.

Comments Due: 5 p.m. ET 4/9/19.

Docket Numbers: RP19-941-000.

Applicants: Gas Transmission Northwest LLC.

Description: Compliance filing Compliance to Docket No. RM96-1-041 to be effective 8/1/2019.

Filed Date: 3/28/19.

Accession Number: 20190328-5085.

Comments Due: 5 p.m. ET 4/9/19.

Docket Numbers: RP19-942-000.

Applicants: El Paso Natural Gas Company, L.L.C.

Description: § 4(d) Rate Filing: Nonconforming Letter Agreement Filing to be effective 5/1/2019.

Filed Date: 3/28/19.

Accession Number: 20190328-5092.

Comments Due: 5 p.m. ET 4/9/19.

Docket Numbers: RP19-943-000.

Applicants: Stagecoach Pipeline & Storage Company LLC.

Description: Compliance filing Stagecoach Pipeline & Storage Company LLC—Order No. 587-Y Compliance Filing to be effective 8/1/2019.

Filed Date: 3/28/19.

Accession Number: 20190328-5093.

Comments Due: 5 p.m. ET 4/9/19.

Docket Numbers: RP19-944-000.

Applicants: Tres Palacios Gas Storage LLC.

Description: Compliance filing Tres Palacios Gas Storage LLC—Order No. 587-Y Compliance Filing to be effective 8/1/2019.

Filed Date: 3/28/19.

Accession Number: 20190328-5096.

Comments Due: 5 p.m. ET 4/9/19.

Docket Numbers: RP19-945-000.

Applicants: Pine Needle LNG Company, LLC.

Description: § 4(d) Rate Filing: 2019 Annual Fuel and Electric Power Tracker Filing to be effective 5/1/2019.

Filed Date: 3/28/19.

Accession Number: 20190328-5098.

Comments Due: 5 p.m. ET 4/9/19.

Docket Numbers: RP19-946-000.

Applicants: Arlington Storage Company, LLC.

Description: Compliance filing Arlington Storage Company, LLC—Order No. 587-Y Compliance Filing to be effective 8/1/2019.

Filed Date: 3/28/19.

Accession Number: 20190328-5099.

Comments Due: 5 p.m. ET 4/9/19.

Docket Numbers: RP19-947-000.

Applicants: Natural Gas Pipeline Company of America.

Description: § 4(d) Rate Filing: Amendment to Negotiated Rate Agreement—Spire Marketing to be effective 4/1/2019.

Filed Date: 3/28/19.

Accession Number: 20190328-5101.

Comments Due: 5 p.m. ET 4/9/19.

Docket Numbers: RP19-948-000.

Applicants: Natural Gas Pipeline Company of America.

Description: § 4(d) Rate Filing: Amendment to Negotiated Rate Agreement—Macquarie to be effective 4/1/2019.

Filed Date: 3/28/19.

Accession Number: 20190328-5102.

Comments Due: 5 p.m. ET 4/9/19.

Docket Numbers: RP19-949-000.

Applicants: Algonquin Gas Transmission, LLC.

Description: § 4(d) Rate Filing: Negotiated Rate—Boston 510798 to BBPC 798914 eff 4-1-19 to be effective 4/1/2019.

Filed Date: 3/28/19.

Accession Number: 20190328-5111.

Comments Due: 5 p.m. ET 4/9/19.

Docket Numbers: RP19-950-000.

Applicants: Great Lakes Gas Transmission Limited Parnership.

Description: Compliance filing Compliance to Docket No. RM96-1-041 to be effective 8/1/2019.

Filed Date: 3/28/19.

Accession Number: 20190328-5155.

Comments Due: 5 p.m. ET 4/9/19.

Docket Numbers: RP19-951-000.

Applicants: Northwest Pipeline LLC.

Description: Compliance filing NAESB 3.1 Compliance Filing to be effective 8/1/2019.

Filed Date: 3/28/19.

Accession Number: 20190328-5159.

Comments Due: 5 p.m. ET 4/9/19.

Docket Numbers: RP19-952-000.

Applicants: LA Storage, LLC.

Description: Compliance filing LA Storage, LLC Compliance Filing per FERC Order 587-Y NAESB 3.1 to be effective 8/1/2019.

Filed Date: 3/28/19.

Accession Number: 20190328-5160.

Comments Due: 5 p.m. ET 4/9/19.

Docket Numbers: RP19-953-000.

Applicants: NEXUS Gas Transmission, LLC.

Description: § 4(d) Rate Filing: Negotiated Rates—Columbia 860005 Releases eff 4-1-2019 to be effective 4/1/2019.

Filed Date: 3/28/19.

Accession Number: 20190328-5175.

Comments Due: 5 p.m. ET 4/9/19.

Docket Numbers: RP19-954-000.

Applicants: Cameron Interstate Pipeline, LLC.

Description: Compliance filing Cameron Interstate Pipeline, LLC Compliance Filing—FERC Order 587-Y NAESB 3.1 to be effective 8/1/2019.

Filed Date: 3/28/19.

Accession Number: 20190328-5178.

Comments Due: 5 p.m. ET 4/9/19.

Docket Numbers: RP19-955-000.

Applicants: Texas Eastern Transmission, LP.

Description: § 4(d) Rate Filing: Negotiated Rate—Gulfport 911377 to Eco-Energy 8956870 eff 4-1-19 to be effective 4/1/2019.

Filed Date: 3/28/19.

Accession Number: 20190328-5180.

Comments Due: 5 p.m. ET 4/9/19.

Docket Numbers: RP19-956-000.

Applicants: North Baja Pipeline, LLC.

Description: Compliance filing Compliance to Docket No. RM96-1-041 to be effective 8/1/2019.

Filed Date: 3/28/19.

Accession Number: 20190328-5181.

Comments Due: 5 p.m. ET 4/9/19.

Docket Numbers: RP19-957-000.

Applicants: MoGas Pipeline LLC.

Description: § 4(d) Rate Filing: MoGas RP18-1113 Compliance Filing to Provide Corrected Tariff Record to be effective 12/1/2018.

Filed Date: 3/28/19.

Accession Number: 20190328-5182.

Comments Due: 5 p.m. ET 4/9/19.

Docket Numbers: RP19-958-000.

Applicants: Tuscarora Gas Transmission Company.

Description: Compliance filing Compliance to Docket No. RM96-1-041 to be effective 8/1/2019.

Filed Date: 3/28/19.

Accession Number: 20190328-5188.

Comments Due: 5 p.m. ET 4/9/19.

Docket Numbers: RP19-959-000.

Applicants: Portland Natural Gas Transmission System.

Description: Compliance filing Compliance to Docket No. RM96-1-041 to be effective 8/1/2019.

Filed Date: 3/28/19.

Accession Number: 20190328-5252.

Comments Due: 5 p.m. ET 4/9/19.

Docket Numbers: RP19-960-000.

Applicants: Algonquin Gas Transmission, LLC.

Description: § 4(d) Rate Filing: Negotiated Rates—Brooklyn 797626 releases eff 4-1-19 to be effective 4/1/2019.

Filed Date: 3/28/19.

Accession Number: 20190328-5278.

Comments Due: 5 p.m. ET 4/9/19.

Docket Numbers: RP19-961-000.

Applicants: Transcontinental Gas Pipe Line Company, LLC.

Description: § 4(d) Rate Filing: Non-Conforming—Turnback—Con Ed, GRID to be effective 5/1/2019.

Filed Date: 3/28/19.

Accession Number: 20190328-5279.

Comments Due: 5 p.m. ET 4/9/19.

Docket Numbers: RP19-962-000.

Applicants: Hardy Storage Company, LLC.

Description: Compliance filing Compliance to Docket No. RM96-1-041 to be effective 8/1/2019.

Filed Date: 3/28/19.

Accession Number: 20190328-5280.

Comments Due: 5 p.m. ET 4/9/19.

Docket Numbers: RP19-963-000.

Applicants: Sabine Pipe Line LLC.

Description: Compliance filing Request for Continuation of Extension to be effective 8/1/2019.

Filed Date: 3/28/19.

Accession Number: 20190328-5281.

Comments Due: 5 p.m. ET 4/9/19.

Docket Numbers: RP19-964-000.

Applicants: Chandeleur Pipe Line, LLC.

Description: Compliance filing Request for Continuation of Extension to be effective 8/1/2019.

Filed Date: 3/28/19.

Accession Number: 20190328-5283.

Comments Due: 5 p.m. ET 4/9/19.

Docket Numbers: RP19-965-000.

Applicants: Equitrans, L.P.

Description: § 4(d) Rate Filing: Negotiated Rate Service Agreements—04012019 LPS to be effective 4/1/2019.

Filed Date: 3/29/19.

Accession Number: 20190329-5005.

Comments Due: 5 p.m. ET 4/10/19.

Docket Numbers: RP19-966-000.

Applicants: Iroquois Gas Transmission System, L.P.

Description: § 4(d) Rate Filing: 032919 Negotiated Rates—Wells Fargo Commodities, LLC R-7810-15 to be effective 4/1/2019.

Filed Date: 3/29/19.

Accession Number: 20190329-5023.

Comments Due: 5 p.m. ET 4/10/19.

Docket Numbers: RP19-967-000.

Applicants: Midwestern Gas Transmission Company.

Description: Compliance filing NAESB 3.1 Compliance Filing to be effective 8/1/2019.

Filed Date: 3/29/19.

Accession Number: 20190329-5031.

Comments Due: 5 p.m. ET 4/10/19.

Docket Numbers: RP19-968-000.

Applicants: Equitrans, L.P.

Description: § 4(d) Rate Filing: Negotiated Retainage Agreements to be effective 4/1/2019.

Filed Date: 3/29/19.

Accession Number: 20190329-5036.

Comments Due: 5 p.m. ET 4/10/19.

Docket Numbers: RP19-969-000.

Applicants: Dominion Energy Carolina Gas Transmission.

Description: Compliance filing DECG—NAESB Version 3.1 Compliance to be effective 8/1/2019.

Filed Date: 3/29/19.

Accession Number: 20190329-5037.

Comments Due: 5 p.m. ET 4/10/19.

Docket Numbers: RP19-970-000.

Applicants: Iroquois Gas Transmission System, L.P.

Description: § 4(d) Rate Filing: 032919 Negotiated Rates—Wells Fargo Commodities, LLC R-7810-14 to be effective 4/1/2019.

Filed Date: 3/29/19.

Accession Number: 20190329-5039.

Comments Due: 5 p.m. ET 4/10/19.

Docket Numbers: RP19-971-000.

Applicants: Dauphin Island Gathering Partners.

Description: § 4(d) Rate Filing: Negotiated Rate Filing 3-29-2019 to be effective 4/1/2019.

Filed Date: 3/29/19.

Accession Number: 20190329-5042.

Comments Due: 5 p.m. ET 4/10/19.

Docket Numbers: RP19-972-000.

Applicants: Iroquois Gas Transmission System, L.P.

Description: § 4(d) Rate Filing: 032919 Negotiated Rates—Twin Eagle Resource Management, LLC R-7300-11 to be effective 4/1/2019.

Filed Date: 3/29/19.

Accession Number: 20190329-5045.

Comments Due: 5 p.m. ET 4/10/19.

Docket Numbers: RP19-973-000.

Applicants: Iroquois Gas Transmission System, L.P.

Description: § 4(d) Rate Filing: 032919 Negotiated Rates—Twin Eagle Resource Management, LLC R-7300-12 to be effective 4/1/2019.

Filed Date: 3/29/19.

Accession Number: 20190329-5055.

Comments Due: 5 p.m. ET 4/10/19.

Docket Numbers: RP19-974-000.

Applicants: Iroquois Gas Transmission System, L.P.

Description: § 4(d) Rate Filing: 032919 Negotiated Rates—Twin Eagle Resource Management, LLC R-7300-13 to be effective 4/1/2019.

Filed Date: 3/29/19.

Accession Number: 20190329-5065.

Comments Due: 5 p.m. ET 4/10/19.

Docket Numbers: RP19-975-000.

Applicants: Equitrans, L.P.

Description: § 4(d) Rate Filing: Update Initial Retainage Rate 4-1-2019 to be effective 4/1/2019.

Filed Date: 3/29/19.

Accession Number: 20190329-5067.

Comments Due: 5 p.m. ET 4/10/19.

Docket Numbers: RP19-976-000.

Applicants: Tennessee Gas Pipeline Company, L.L.C.

Description: Compliance filing NAESB Version 3.1 Compliance Filing Persuant to Order No. 587-Y to be effective 8/1/2019.

Filed Date: 3/29/19.

Accession Number: 20190329-5084.

Comments Due: 5 p.m. ET 4/10/19.

Docket Numbers: RP19-977-000.

Applicants: OkTex Pipeline Company, L.L.C.

Description: Compliance filing NAESB 3.1 Compliance Filing to be effective 8/1/2019.

Filed Date: 3/29/19.

Accession Number: 20190329-5085.

Comments Due: 5 p.m. ET 4/10/19.

Docket Numbers: RP19-978-000.

Applicants: Viking Gas Transmission Company.

Description: Compliance filing NAESB 3.1 Compliance Filing to be effective 8/1/2019.

Filed Date: 3/29/19.

Accession Number: 20190329-5086.

Comments Due: 5 p.m. ET 4/10/19.

Docket Numbers: RP19-979-000.

Applicants: Horizon Pipeline Company, L.L.C.

Description: Compliance filing Compliance Filing Pursuant to Order No. 587-Y to be effective 8/1/2019.

Filed Date: 3/29/19.

Accession Number: 20190329-5088.

Comments Due: 5 p.m. ET 4/10/19.

Docket Numbers: RP19-980-000.

Applicants: Natural Gas Pipeline Company of America.

Description: Compliance filing Compliance Filing Pursuant to Order No 587-Y to be effective 8/1/2019.

Filed Date: 3/29/19.

Accession Number: 20190329-5089.

Comments Due: 5 p.m. ET 4/10/19.

Docket Numbers: RP19-981-000.

Applicants: Millennium Pipeline Company, LLC.

Description: § 4(d) Rate Filing: New Recurrence Interval Filing to be effective 4/29/2019.

Filed Date: 3/29/19.

Accession Number: 20190329-5090.

Comments Due: 5 p.m. ET 4/10/19.

Docket Numbers: RP19-982-000.

Applicants: Central Kentucky Transmission Company.

Description: Compliance filing Compliance to Docket No. RM96-1-041 to be effective 8/1/2019.

Filed Date: 3/29/19.

Accession Number: 20190329-5095.

Comments Due: 5 p.m. ET 4/10/19.

Docket Numbers: RP19-983-000.

Applicants: Transcontinental Gas Pipe Line Company, LLC.

Description: § 4(d) Rate Filing: Negotiated Rates—Cherokee AGL—Replacement Shippers—Apr 2019 to be effective 4/1/2019.

Filed Date: 3/29/19.

Accession Number: 20190329-5100.

Comments Due: 5 p.m. ET 4/10/19.

Docket Numbers: RP19-984-000.

Applicants: Colorado Interstate Gas Company, L.L.C.

Description: Compliance filing Order No. 587-Y Compliance Filing to be effective 8/1/2019.

Filed Date: 3/29/19.

Accession Number: 20190329-5124.

Comments Due: 5 p.m. ET 4/10/19.

Docket Numbers: RP19-985-000.

Applicants: Wyoming Interstate Company, L.L.C..

Description: Compliance filing Order No. 587-Y Compliance Filing to be effective 8/1/2019.

Filed Date: 3/29/19.

Accession Number: 20190329-5125.

Comments Due: 5 p.m. ET 4/10/19.

Docket Numbers: RP19-986-000.

Applicants: Gulf South Pipeline Company, LP.

Description: § 4(d) Rate Filing: Amendment to Neg Rate Agmt & Cap Rel Neg Rate Agmts (FPL 41618 and 41619) to be effective 4/1/2019.

Filed Date: 3/29/19.

Accession Number: 20190329-5127.

Comments Due: 5 p.m. ET 4/10/19.

Docket Numbers: RP19-987-000.

Applicants: East Tennessee Natural Gas, LLC.

Description: East Tennessee Natural Gas, LLC submits the 2017-2018 Cashout Report under RP19-987.

Filed Date: 3/28/19.

Accession Number: 20190328-5316.

Comments Due: 5 p.m. ET 4/9/19.

Docket Numbers: RP19-988-000.

Applicants: Gulf South Pipeline Company, LP.

Description: § 4(d) Rate Filing: Cap Rel Neg Rate Agmt (Atmos 45527 to Trans LA 50890) to be effective 4/1/2019.

Filed Date: 3/29/19.

Accession Number: 20190329-5128.

Comments Due: 5 p.m. ET 4/10/19.

Docket Numbers: RP19-989-000.

Applicants: DTE Midstream Appalachia, LLC.

Description: Annual Fuel Lost and Unaccounted Adjustment Report of DTE Midstream Appalachia, LLC under RP19-989.

Filed Date: 3/28/19.

Accession Number: 20190328-5317.

Comments Due: 5 p.m. ET 4/9/19.

Docket Numbers: RP19-990-000.

Applicants: Cheyenne Plains Gas Pipeline Company, L.L.C.

Description: Compliance filing Order No. 587-Y Compliance Filing to be effective 8/1/2019.

Filed Date: 3/29/19.

Accession Number: 20190329-5129.

Comments Due: 5 p.m. ET 4/10/19.

Docket Numbers: RP19-991-000.

Applicants: Gulf South Pipeline Company, LP.

Description: § 4(d) Rate Filing: Cap Rel Neg Rate Agmts (Atlanta Gas 8438 to various eff 4-1-2019) to be effective 4/1/2019.

Filed Date: 3/29/19.

Accession Number: 20190329-5130.

Comments Due: 5 p.m. ET 4/10/19.

Docket Numbers: RP19-992-000.

Applicants: Texas Gas Transmission, LLC.

Description: § 4(d) Rate Filing: Non-conforming Neg Rate Agmts (CCI 35829 and Castleton 37650) to be effective 4/1/2019.

Filed Date: 3/29/19.

Accession Number: 20190329-5131.

Comments Due: 5 p.m. ET 4/10/19.

Docket Numbers: RP19-993-000.

Applicants: Texas Gas Transmission, LLC.

Description: § 4(d) Rate Filing: Cap Rel Neg Rate Agmt (JERA 37702 to EDF 37859) to be effective 4/1/2019.

Filed Date: 3/29/19.

Accession Number: 20190329-5132.

Comments Due: 5 p.m. ET 4/10/19.

Docket Numbers: RP19-994-000.

Applicants: Young Gas Storage Company, Ltd.

Description: Compliance filing Order No. 587-Y Compliance Filing to be effective 8/1/2019.

Filed Date: 3/29/19.

Accession Number: 20190329-5133.

Comments Due: 5 p.m. ET 4/10/19.

Docket Numbers: RP19-995-000.

Applicants: Texas Gas Transmission, LLC.

Description: § 4(d) Rate Filing: Cap Rel Neg Rate Agmt (EM Energy OH 35451 to CIMA 37863) to be effective 4/1/2019.

Filed Date: 3/29/19.

Accession Number: 20190329-5138.

Comments Due: 5 p.m. ET 4/10/19.

Docket Numbers: RP19-996-000.

Applicants: Apache Corporation,Red Wolf Acquisitions, LLC.

Description: Joint Petition for Temporary Waiver of Commission Policies, et al. of Apache Corporation, et al. under RP19-996..

Filed Date: 3/28/19.

Accession Number: 20190328-5320.

Comments Due: 5 p.m. ET 4/5/19.

Docket Numbers: RP19-997-000.

Applicants: MoGas Pipeline LLC.

Description: Compliance filing MoGas NAESB Compliance Filing with Order No. 587-Y to be effective 8/1/2019.

Filed Date: 3/29/19.

Accession Number: 20190329-5188.

Comments Due: 5 p.m. ET 4/10/19.

Docket Numbers: RP19-998-000.

Applicants: Rover Pipeline LLC.

Description: § 4(d) Rate Filing: Summary of Negotiated Rate Capacity Release Agreements on 3-29-19 to be effective 4/1/2019.

Filed Date: 3/29/19.

Accession Number: 20190329-5191.

Comments Due: 5 p.m. ET 4/10/19.

Docket Numbers: RP19-999-000.

Applicants: Rockies Express Pipeline LLC.

Description: § 4(d) Rate Filing: Neg Rate 2019-03-29 BHS (4) to be effective 4/1/2019.

Filed Date: 3/29/19.

Accession Number: 20190329-5192.

Comments Due: 5 p.m. ET 4/10/19.

Docket Numbers: RP19-1000-000.

Applicants: Trailblazer Pipeline Company LLC.

Description: § 4(d) Rate Filing: Neg Rate 2019-03-29 Koch, Morgan Stanley, Northwestern and CIMA to be effective 4/1/2019.

Filed Date: 3/29/19.

Accession Number: 20190329-5193

Comments Due: 5 p.m. ET 4/10/19.

Docket Numbers: RP19-1001-000.

Applicants: East Tennessee Natural Gas, LLC.

Description: § 4(d) Rate Filing: ETNG—Wacker 410453 Release to Infinite Energy 661906 to be effective 4/1/2019.

Filed Date: 3/29/19.

Accession Number: 20190329-5194.

Comments Due: 5 p.m. ET 4/10/19.

Docket Numbers: RP19-1002-000.

Applicants: Crossroads Pipeline Company.

Description: Compliance filing Compliance to Docket No. RM96-1-041 to be effective 8/1/2019.

Filed Date: 3/29/19.

Accession Number: 20190329-5195.

Comments Due: 5 p.m. ET 4/10/19.

Docket Numbers: RP19-1003-000.

Applicants: Rockies Express Pipeline LLC.

Description: § 4(d) Rate Filing: Neg Rate 2019-03-29 CP to be effective 4/1/2019.

Filed Date: 3/29/19.

Accession Number: 20190329-5196.

Comments Due: 5 p.m. ET 4/10/19.

Docket Numbers: RP19-1004-000.

Applicants: Dominion Energy Transmission, Inc.

Description: Compliance filing DETI—NAESB Version 3.1 Compliance to be effective 8/1/2019.

Filed Date: 3/29/19.

Accession Number: 20190329-5197.

Comments Due: 5 p.m. ET 4/10/19.

Docket Numbers: RP19-1005-000.

Applicants: Guardian Pipeline, L.L.C..

Description: Compliance filing NAESB 3.1 Compliance Filing to be effective 8/1/2019.

Filed Date: 3/29/19.

Accession Number: 20190329-5199.

Comments Due: 5 p.m. ET 4/10/19.

Docket Numbers: RP19-1006-000.

Applicants: Dominion Energy Cove Point LNG, LP.

Description: Compliance filing DECP—2019 NAESB Version 3.1 Compliance to be effective 8/1/2019.

Filed Date: 3/29/19.

Accession Number: 20190329-5201.

Comments Due: 5 p.m. ET 4/10/19.

Docket Numbers: RP19-1007-000.

Applicants: Tallgrass Interstate Gas Transmission, LLC.

Description: § 4(d) Rate Filing: Neg Rate 2019-03-29 CMC-2 (2) to be effective 4/1/2019.

Filed Date: 3/29/19.

Accession Number: 20190329-5210.

Comments Due: 5 p.m. ET 4/10/19.

Docket Numbers: RP19-1008-000.

Applicants: ANR Storage Company.

Description: § 4(d) Rate Filing: Seller's Use—Fuel Filing 2019 to be effective 5/1/2019.

Filed Date: 3/29/19.

Accession Number: 20190329-5246.

Comments Due: 5 p.m. ET 4/10/19.

Docket Numbers: RP19-1009-000.

Applicants: Algonquin Gas Transmission, LLC.

Description: § 4(d) Rate Filing: Negotiated Rates—ConEd 510371 releases eff 4-1-19 to be effective 4/1/2019.

Filed Date: 3/29/19.

Accession Number: 20190329-5259.

Comments Due: 5 p.m. ET 4/10/19.

Docket Numbers: RP19-1010-000.

Applicants: Northern Natural Gas Company.

Description: § 4(d) Rate Filing: 20190329 Negotiated Rate Filing to be effective 4/1/2019.

Filed Date: 3/29/19.

Accession Number: 20190329-5264.

Comments Due: 5 p.m. ET 4/10/19.

Docket Numbers: RP19-1011-000.

Applicants: Paiute Pipeline Company.

Description: Compliance filing Compliance Filing to Docket No. RM96-1-041 to be effective 8/1/2019.

Filed Date: 3/29/19.

Accession Number: 20190329-5270.

Comments Due: 5 p.m. ET 4/10/19.

Docket Numbers: RP19-1012-000.

Applicants: Algonquin Gas Transmission, LLC.

Description: § 4(d) Rate Filing: Negotiated Rates—Keyspan 510369 releases eff 4-01-19 to be effective 4/1/2019.

Filed Date: 3/29/19.

Accession Number: 20190329-5274.

Comments Due: 5 p.m. ET 4/10/19.

Docket Numbers: RP19-1013-000.

Applicants: Texas Eastern Transmission, LP.

Description: § 4(d) Rate Filing: Gulf Markets NCF Agreement—Mitsui Contract 911329 to be effective 4/1/2019.

Filed Date: 3/29/19.

Accession Number: 20190329-5295.

Comments Due: 5 p.m. ET 4/10/19.

Docket Numbers: RP19-1014-000.

Applicants: Southern Star Central Gas Pipeline, Inc.

Description: Compliance filing NAESB 3.1 to be effective 8/1/2019.

Filed Date: 3/29/19.

Accession Number: 20190329-5301.

Comments Due: 5 p.m. ET 4/10/19.

Docket Numbers: RP19-1015-000.

Applicants: Columbia Gas Transmission, LLC.

Description: Compliance filing Compliance to Docket No. RM96-1-041 to be effective 8/1/2019.

Filed Date: 3/29/19.

Accession Number: 20190329-5307.

Comments Due: 5 p.m. ET 4/10/19.

Docket Numbers: RP19-1016-000.

Applicants: Kinder Morgan Louisiana Pipeline LLC.

Description: Compliance filing NAESB Compliance Filing to be effective 8/1/2019.

Filed Date: 3/29/19.

Accession Number: 20190329-5387.

Comments Due: 5 p.m. ET 4/10/19.

Docket Numbers: RP19-1017-000.

Applicants: Kinder Morgan Illinois Pipeline LLC.

Description: Compliance filing Order No. 587-Y Compliance Filing to be effective 8/1/2019.

Filed Date: 3/29/19.

Accession Number: 20190329-5390.

Comments Due: 5 p.m. ET 4/10/19.

Docket Numbers: RP19-1018-000.

Applicants: Columbia Gulf Transmission, LLC.

Description: Compliance filing Compliance to Docket No. RM96-1-041 to be effective 8/1/2019.

Filed Date: 3/29/19.

Accession Number: 20190329-5406.

Comments Due: 5 p.m. ET 4/10/19.

Docket Numbers: RP19-1019-000.

Applicants: Texas Eastern Transmission, LP.

Description: § 4(d) Rate Filing: NJNY Perm Releases to ConEd—NCF and NegRates to be effective 4/1/2019.

Filed Date: 3/29/19.

Accession Number: 20190329-5408.

Comments Due: 5 p.m. ET 4/10/19.

Docket Numbers: RP19-1020-000.

Applicants: Rockies Express Pipeline LLC.

Description: § 4(d) Rate Filing: Neg Rate 2019-03-29 E2W (9) to be effective 4/1/2019.

Filed Date: 3/29/19.

Accession Number: 20190329-5412.

Comments Due: 5 p.m. ET 4/10/19.

Docket Numbers: RP19-1021-000.

Applicants: Tennessee Gas Pipeline Company, L.L.C.

Description: § 4(d) Rate Filing: Volume No.2—Neg Rate Agmt—Merc. SP343265, Spotl. SP344150 and Macq. SP345949 to be effective 4/1/2019.

Filed Date: 3/29/19.

Accession Number: 20190329-5417.

Comments Due: 5 p.m. ET 4/10/19.

Docket Numbers: RP19-1022-000.

Applicants: Tennessee Gas Pipeline Company, L.L.C.

Description: § 4(d) Rate Filing: Volume No.2—Neg Rate Agmt—ConEd SP345982 and Direct Energy SP346759 to be effective 4/1/2019.

Filed Date: 3/29/19.

Accession Number: 20190329-5438.

Comments Due: 5 p.m. ET 4/10/19.

Docket Numbers: RP19-1024-000.

Applicants: Alliance Canada Marketing L.P.,CPV Three Rivers, LLC.

Description: Joint Petition for Limited Waivers of Capacity Release Regulations and Tariff Provisions of Canada Marketing L.P., et al. under RP19-1024.

Filed Date: 3/29/19.

Accession Number: 20190329-5457.

Comments Due: 5 p.m. ET 4/10/19.

Docket Numbers: RP19-1025-000.

Applicants: Natural Gas Pipeline Company of America.

Description: Penalty Revenue Crediting Report of Natural Gas Pipeline Company of America LLC under RP19-1025.

Filed Date: 3/29/19.

Accession Number: 20190329-5458.

Comments Due: 5 p.m. ET 4/10/19.

Docket Numbers: RP19-1026-000.

Applicants: Horizon Pipeline Company, L.L.C.

Description: Penalty Revenue Crediting Report of Horizon Pipeline Company, L.L.C. under RP19-1026.

Filed Date: 3/29/19.

Accession Number: 20190329-5459.

Comments Due: 5 p.m. ET 4/10/19.

Docket Numbers: RP19-1027-000.

Applicants: Iroquois Gas Transmission System, L.P.

Description: Annual Fuel and Losses Retention Calculations of Iroquois Gas Transmission System, L.P. under RP19-1027.

Filed Date: 3/29/19.

Accession Number: 20190329-5460.

Comments Due: 5 p.m. ET 4/10/19.

Docket Numbers: RP19-1028-000.

Applicants: Kern River Gas Transmission Company.

Description: Annual Gas Compressor Fuel Report of Kern River Gas Transmission Company under RP19-1028.

Filed Date: 3/29/19.

Accession Number: 20190329-5461.

Comments Due: 5 p.m. ET 4/10/19.

Docket Numbers: RP19-581-001.

Applicants: Rager Mountain Storage Company LLC.

Description: Compliance filing Compliance Filing—Order No. 587-Y to be effective 8/1/2019.

Filed Date: 3/29/19.

Accession Number: 20190329-5007.

Comments Due: 5 p.m. ET 4/10/19.

Docket Numbers: RP19-582-001.

Applicants: Equitrans, L.P.

Description: Compliance filing Compliance Filing—Order No. 587-Y to be effective 8/1/2019.

Filed Date: 3/29/19.

Accession Number: 20190329-5006.

Comments Due: 5 p.m. ET 4/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2019.
Nathaniel J. Davis, Sr.,
Deputy Secretary.

[FR Doc. 2019-06722 Filed 4-4-19; 8:45 am]

BILLING CODE 6717-01-P